DEPARTMENT OF THE INTERIOR

National Park Service

[N6450; NPS-WASO-NAGPRA-NPS0040860; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of human remains and associated funerary objects and has determined that there is a cultural affiliation between the human remains and associated funerary objects and Indian Tribes or Native Hawaiian organizations in this notice.

DATES: Repatriation of the human remains and associated funerary objects in this notice may occur on or after September 17, 2025

ADDRESSES: Send written requests for repatriation of the human remains and associated funerary objects in this notice to Dr. Thomas Torma, Repatriation Program Manager, The University of Kansas, Office of Audit, Risk, and Compliance, 1450 Jayhawk Boulevard, 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Human remains representing, at least, 21 individuals have been identified from three separate sites in Kansas. The three associated funerary objects include three lots of artifacts.

An unnamed site (14BO20) is located in Bourbon County, Kansas. Human remains representing, at least, one individual has been identified. The one associated funerary object is one lot of artifacts. This site was excavated in 1968 as part of surveys in preparation for the development of Fort Scott Reservoir by the Kansas City District of the United States Army Corps of Engineers.

The Kesl Site is located in Republic County, Kansas with no known trinomial. Human remains representing, at least, one individual has been identified. The one associated funerary object includes one lot of artifacts. This site was excavated in the 1920s on the property of J. Kesl by Floyd Schultz who donated his collection to the University of Kansas in 1948. Records do not correspond with any other known sites in the area described.

A site in an undescribed location is from Wyandotte County, Kansas. Human remains representing at least 19 individuals have been identified. The site was excavated in May 1973 on the property of Frank Calovich. Writing on the bag containing remains includes the name “P. Lin,” who was a graduate student at the University of Kansas at the time of excavation.

In addition, one lot of artifacts associated with human remains that were previously listed in a Notice of Inventory Completion published in the Federal Register on September 29, 2023 (88 FR 67351) have been identified. The one lot of associated funerary objects are artifacts. The items, which come from Cochran Mound (23PL86), was initially excavated in 1971 by staff and students of the Kansas Archaeological Field School, directed by Patricia J. O'Brien of Kansas State University (KSU). During their excavation, they noted previous looting of the mound. In 2024, the children of R. B. Aker donated additional items collected by their family to accompany collections which were donated to KU in 1988 and 2022.

There is no record of toxic substances being used to treat any of the items described in this notice.

Cultural Affiliation

Based on the information available and the results of consultation, cultural affiliation is reasonably identified by the geographical location or acquisition history of the human remains and associated funerary objects described in this notice.

Determinations

The University of Kansas has determined that:

• The human remains described in this notice represent the physical remains of at least 21 individuals of Native American ancestry.

• The three objects described in this notice are reasonably believed to have been placed intentionally with or near individual human remains at the time of death or later as part of the death rite or ceremony.

• There is a connection between the human remains and associated funerary objects described in this notice and the Pawnee Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 17, 2025. If competing requests for repatriation are received, the University of Kansas must determine the most appropriate requestor prior to repatriation. Requests for joint repatriation of the human remains and associated funerary objects are considered a single request and not competing requests. The University of Kansas is responsible for sending a copy of this notice to the Indian Tribes and Native Hawaiian organizations identified in this notice.

Authority: Native American Graves Protection and Repatriation Act, 25 U.S.C. 3003, and the implementing regulations, 43 CFR 10.10.

Dated: August 6, 2025.
Melanie O'Brien,
Manager, National NAGPRA Program.

[FR Doc. 2025-15672 Filed 8-15-25; 8:45 am]

BILLING CODE 4312-52-P